FEDERAL COMMUNICATIONS COMMISSION

47 CFR PART 2

[ET Docket No. 26-22, ET Docket No. 26-23; Report No. 3232; FR ID 329036]

Petition for Reconsideration of Action in Rulemaking Proceeding; Application for Review of Action in Rulemaking Proceeding; Correction

AGENCY: Federal Communications Commission.

ACTION: Notice; correction.

SUMMARY: The Federal Communications Commission (Commission) published a document in the Federal Register of February 5, 2026, concerning request for replies to oppositions on specifications for Petition for Reconsideration of Action in Rulemaking Proceeding Application for Review of Action in Rulemaking Proceeding. The document contained incorrect dates.

SUPPLEMENTARY INFORMATION:

Correction

In the Federal Register of February 6, 2026, in 91 FR 5245, on page 5245, in the first column, correct the Dates caption to read:

DATES: Oppositions to the Petition and AFR must be filed on or before April 6, 2026. Replies to oppositions to the Petition and AFR must be filed on or before May 9, 2026.

Dated: February 10, 2026.
Federal Communications Commission.
Marlene Dortch,
Secretary.

[FR Doc. 2026-03070 Filed 2-13-26; 8:45 am]

BILLING CODE 6712-01-P